DEPARTMENT OF HOMELAND SECURITY

Coast Guard

33 CFR Part 165

[CGD09-04-001]

RIN 1625-AA00

Security Zone; Professional Golfer's Association Championship Tour, Sheboygan, WI; Lake Michigan

AGENCY: Coast Guard, DHS.

ACTION: Temporary final rule.

SUMMARY: The Coast Guard is establishing a temporary security zone for a portion of Lake Michigan in Sheboygan, WI during the Professional Golfers' Association (PGA) Championship Event. This action is part of a comprehensive security plan designed to maximize the safety of the numerous high-profile spectators and athletes expected at this event. This action is intended to restrict vessel traffic for a portion of Lake Michigan off of Sheboygan, WI.

DATES: This rule is effective from 7 a.m. (local) August 9, 2004, until 8 p.m. (local) August 17, 2004.

ADDRESSES: Comments and material received from the public, as well as documents indicated in this preamble as being available in the docket, are part of docket [CGD09-04-001], are available for inspection or copying at MSO Milwaukee between 7 a.m. and 3:30 p.m., Monday through Friday, except Federal holidays.

FOR FURTHER INFORMATION CONTACT: Marine Science Technician Mike Schmidtke, MSO Milwaukee, at (414) 747-7155.

SUPPLEMENTARY INFORMATION:

Regulatory Information

On March 29, 2004, we published a notice of proposed rulemaking (NPRM) entitled “Security Zone; Professional Golfer's Association Championship Tour, Sheboygan, WI; Lake Michigan” in the Federal Register (69 FR 16186). We received no letters commenting on the proposed rule. No public hearing was requested, and none was held.

Background and Purpose

This security zone is necessary to safeguard the PGA Championship Tour players and attendees from potential waterborne threats and hazards. Due to the intense public interest in, and extensive media coverage of this event, the Captain of the Port (COTP) expects a significantly large number of spectators in confined areas adjacent to Lake Michigan.

The security zone coordinates have changed from what was previously published in the Federal Register. These coordinates have changed to increase the safety of the public as well as the Coast Guard vessels patrolling the security zone due to underwater obstructions around and on the previous perimeter of the security zone. The changes made to these coordinates are not significant and still encompass the area as previously discussed. As modified, the COTP is implementing this security zone to ensure the safety and security of both participants and spectators in these areas beginning on August 9, 2004, and concluding on August 17, 2004. Security zone enforcement will occur daily between 7 a.m. and 8 p.m.

Discussion of Comments and Changes

We received no comments in response to this rulemaking and no changes, other than those for safety reasons mentioned in the Background and Purpose section, were made.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. This determination is based on the minimal time that vessels will be restricted from the zone.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: the owners or operators of commercial vessels intending to transit, moor or anchor in a portion of the activated security zone.

This security zone does not have a significant economic impact on a substantial number of small entities for the following reasons: this rule will be in effect for only the 9 days of the event and vessel traffic can safely pass outside of the security zone during the event.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that this rule does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule does not result in such an expenditure, we do discuss the effects of this rule elsewhere in this preamble.

Taking of Private Property

This rule does not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children From Environmental Health Risks and Safety Risks. This rule is not an economically significant rule and will not create an environmental risk to health or risk to safety that might disproportionately affect children.

Indian Tribal Governments

This rule does not have tribal implications under Executive Order 13175, Consultation and Coordination With Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.1D, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(g), of the Instruction, from further environmental documentation.

List of Subjects in 33 CFR Part 165

Harbors, Marine safety, Navigation (water), Reporting and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1

2. From 7 a.m. (local) August 9, 2004, until 8 p.m. (local) August 17, 2004, add § 165.T09-001 to read as follows:

§ 165.T09-001 Security Zone; Professional Golfer's Association Championship Tour, Sheboygan, WI; Lake Michigan.

(a) Location. The following area is a security zone: All waters and adjacent shoreline encompassed by the following coordinates starting at 43°52.385′ N, 087°44.211′ W; then east to 43°52.405′ N, 087°43.205′ W; then south to 43°49.601′ N, 087°42.702′ W; then west to 43°49.604′ N, 087°43.773′ W; then following the shoreline north back to point of origin (NAD 83).

(b) Effective period. This section is effective from 7 a.m. (local) August 9, 2004, until 8 p.m. (local) August 17, 2004.

(c) Regulations. (1) Entry into or remaining in this zone is prohibited unless authorized by Captain of the Port Milwaukee.

(2) Persons desiring to transit the area of the security zone may contact the Captain of the Port at telephone number (414) 747-7155 or on VHF channel 16 or VHF channel 21A to seek permission to transit the area. If permission is granted, all persons and vessels must comply with the instructions of the Captain of the Port or his designated representative.

Dated: June 2, 2004.
H.M. Hamilton,
Commander, U.S. Coast Guard, Captain of the Port Milwaukee.

[FR Doc. 04-13074 Filed 6-9-04; 8:45 am]

BILLING CODE 4910-15-P